DEPARTMENT OF HEALTH AND HUMAN SERVICES

National Institutes of Health

Office of the Director, National Institutes of Health; Notice of Meeting

Pursuant to section 10(a) of the Federal Advisory Committee Act, as amended (5 U.S.C. App.), notice is hereby given of a meeting of the Scientific Management Review Board.

The NIH Reform Act of 2006 (Pub. L. 109-482) provides organizational authorities to HHS and NIH officials to: (1) Establish or abolish national research institutes; (2) reorganize the offices within the Office of the Director, NIH including adding, removing, or transferring the functions of such offices or establishing or terminating such offices; and (3) reorganize, divisions, centers, or other administrative units within an NIH national research institute or national center including adding, removing, or transferring the functions of such units, or establishing or terminating such units. The purpose of the Scientific Management Review Board (also referred to as SMRB or Board) is to advise appropriate HHS and NIH officials on the use of these organizational authorities and identify the reasons underlying the recommendations.

The meeting will be open to the public, with attendance limited to space available. Individuals who plan to attend and need special assistance, such as sign language interpretation or other reasonable accommodations, should notify the Contact Person listed below in advance of the meeting.

Name of Committee: Scientific Management Review Board.

Date: October 26, 2011.

Time: 9 a.m. to 5 p.m.

Agenda: Presentation and discussion will focus on NIH activities related to SMRB recommendations issued in its Report on Translational Medicine and Therapeutics; Report on the NIH Clinical Center; and Report on Substance Use, Abuse, and Addiction Research at NIH. The Board will also discuss future SMRB activities. Further information for this meeting, including the agenda, will be available at http://smrb.od.nih.gov. Time will be allotted on the agenda for public comment. To sign up for public comments electronically, please send an email with your name and affiliation to the Contact Person's e-mail address listed below by October 25, 2011. Sign up for public comments in person will begin approximately at 8:30 a.m. on October 26, 2011. Sign-up participants' comments will be restricted to one person per sign in. In the event that time does not allow for all those interested to present oral comments, anyone may file written comments using the Contact Person's address below.

Place: National Institutes of Health, Building 31, 6th Floor, Conference Room 6, 31 Center Drive, Bethesda, MD 20892.

Contact Person: Lyric Jorgenson, PhD, Office of Biotechnology Activities, Office of Science Policy, Office of the Director, NIH, National Institutes of Health, 6705 Rockledge Drive, Suite 750, Bethesda, MD 20892, smrb@mail.nih.gov, (301) 496-6837.

Any interested person may file written comments with the committee by forwarding the statement to the Contact Person listed on this notice. The statement should include the name, address, telephone number and when applicable, the business or professional affiliation of the interested person.

The meeting will also be webcast. The draft meeting agenda, meeting materials, dial-in information, and other information about the SMRB, will be available at http://smrb.od.nih.gov.

In the interest of security, NIH has instituted stringent procedures for entrance onto the NIH campus. All visitors vehicles, including taxicabs, hotel, and airport shuttles will be inspected before being allowed on campus. Visitors will be asked to show one form of identification (for example, a government-issued photo ID, driver's license, or passport) and to state the purpose of their visit.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: September 30, 2011.
Jennifer S. Spaeth,
Director, Office of Federal Advisory Committee Policy.

[FR Doc. 2011-25865 Filed 10-5-11; 8:45 am]

BILLING CODE 4140-01-P